Title 3—

The President

Proclamation 7503 of November 15, 2001

America Recycles Day, 2001

By the President of the United States of America

A Proclamation

We must preserve our natural heritage by serving as good stewards of our land. Recycling helps to serve this important function by conserving our natural resources as we reuse them where we can. Recycling safeguards our environment and helps keep America beautiful for present and future generations.

The United States generates more than 230 million tons of municipal solid waste every year, which amounts to four and a half pounds of trash per person per day. However, thanks to the efforts of the American people, we are now recovering more than 64 million tons of usable material annually, and that rate has doubled since 1990.

Successful recycling includes not only the collection of materials, but also the manufacture of new products and the purchase of recycled content products. Buying products made of recycled materials contributes to domestic energy conservation and ultimately, a cleaner environment. For example, recycling one aluminum can saves enough energy to run a television set for three hours. Recycling a ton of glass saves the equivalent of 9 gallons of fuel oil, and recycling solid waste prevents the release of 37 million tons of carbon into the air—roughly the amount emitted annually by 28 million cars.

As more products made with recycled materials reach the marketplace, individual consumers, corporations, and Federal agencies are purchasing these goods as cost-effective and responsible business solutions. Such items may range from recycled content paper, retread tires, and re-refined oil, to concrete and insulation containing recycled materials.

Our Nation is making great progress by recycling, but we can and must do better. America Recycles Day 2001 represents a partnership among Government, industry, and environmental organizations to promote recycling and to encourage the participation of all our citizens. As part of the event, the Federal Government hosted a poster contest for the children of Federal employees to help raise awareness in the Government, and across the Nation, of the need to continue protecting the environment by recycling. All Americans can help “Close the Recycling Circle,” by recycling products in our homes, schools, offices, and communities, and also by purchasing products made from recycled materials. These recycling and remanufacturing activities help conserve resources and also stimulate our economy by creating jobs and revenue.

Last year, more than 3 million people in all 50 States and 2 U.S. territories committed to reduce, reuse, and recycle more and to buy recycled products. For America Recycles Day 2001, I encourage all Americans to build on these achievements by recycling and by purchasing and using products made from recycled materials. These responsible actions can help protect our environment and conserve natural resources for the benefit of all.

NOW, THEREFORE, I, GEORGE W. BUSH, President of the United States of America, by virtue of the authority vested in me by the Constitution and laws of the United States, do hereby proclaim November 15, 2001, as America Recycles Day. I call upon the people of the United States to observe this day with appropriate programs and activities.

IN WITNESS WHEREOF, I have hereunto set my hand this fifteenth day of November, in the year of our Lord two thousand one, and of the Independence of the United States of America the two hundred and twenty-sixth.

B

[FR Doc. 01-29158

Filed 11-19-01; 8:45 am]

Billing code 3195-01-P